DEPARTMENT OF HOMELAND SECURITY

Coast Guard

33 CFR Part 117

[USCG-2005-22363] [Formerly CGD08-05-049]

RIN 1625-AA09

Drawbridge Operation Regulation; Lafourche Bayou, Lafourche Parish, LA

AGENCY: Coast Guard, DHS.

ACTION: Notice of proposed rulemaking; change of address and docket number for comments.

SUMMARY: On September 2, 2005, the Coast Guard published a notice and requested comments on a proposed change to regulations governing six drawbridges across Bayou Lafourche, south of the Gulf Intracoastal Waterway, in Lafourche Parish, Louisiana. The proposed rule would change bridge schedules so that they would remain closed to navigation at various times on weekdays during the school year to facilitate the safe, efficient movement of staff, students and other residents within the parish. That notice was signed August 26, 2005, before Hurricane Katrina struck New Orleans and caused that city to be flooded. We have changed the address and docket number where comments on the proposed rule should be sent because of flood conditions in New Orleans.

DATES: Comments and related material must reach the Coast Guard on or before November 1, 2005.

ADDRESSES: You may submit comments identified by Coast Guard docket number USCG-2005-22363 to the Docket Management Facility at the U.S. Department of Transportation. To avoid duplication, please use only one of the following methods:

(1) Web site: http://dms.dot.gov.

(2) Mail: Docket Management Facility, U.S. Department of Transportation, 400 Seventh Street SW., Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

(5) Federal eRulemaking Portal: http://www.regulations.gov.

FOR FURTHER INFORMATION CONTACT: Roger Wiebusch, Bridge Administration Branch, telephone 314-539-3900, ext. 2378.

SUPPLEMENTARY INFORMATION:

Request for Comments

We encourage you to participate in this rulemaking by submitting comments and related material. If you do so, please include your name and address, identify the docket number for this rulemaking (USCG-2005-22363), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Change of Address and Docket Number

The notice of proposed rulemaking published September 2, 2005 (70 FR 52340) entitled, “Drawbridge Operation Regulation; Lafourche Bayou, Lafourche Parish, LA”, listed an address in New Orleans as the place to send your comments on the proposed rule. That rulemaking notice was signed August 26, 2005, before Hurricane Katrina struck New Orleans and flooded that city. We have changed the location for receiving comments because of flood conditions in New Orleans. If you wish to comment on the proposed rule, send your comment to the Docket Management Facility in Washington, DC, by one of the means indicated in the ADDRESSES section above in this notice.

With this change of address, we have also changed the docket number to USCG-2005-22363. Please use this new docket number.

Dated: September 2, 2005.
Stefan G. Venckus,
Chief, Office of Regulations and Administrative Law, U.S. Coast Guard.

[FR Doc. 05-17830 Filed 9-2-05; 3:25 pm]

BILLING CODE 4910-15-P